DEPARTMENT OF THE INTERIOR

Fish and Wildlife Service

[FWS-R8-ES-2016-N016; FXES11130800000-167-FF08E00000]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing recovery permits to conduct certain activities with endangered species.

DATES: Comments on these permit applications must be received on or before March 17, 2016.

ADDRESSES: Written data or comments should be submitted to the Endangered Species Program Manager, U.S. Fish and Wildlife Service, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests.

Applicants

Permit No. TE-067064

Applicant: Lindsay Messett, Long Beach, California

The applicant requests a permit renewal and amendment to take (harass by survey) the southwestern willow flycatcher (Empidonax traillii extimus) and take (survey by pursuit) the Quino checkerspot butterfly (Euphydryas editha quino) in conjunction with surveys and population studies throughout the range of the species in California for the purpose of enhancing the species' survival.

Permit No. TE-84210B

Applicant: Amy Storck, Folsom, California

The applicant requests a permit to take (harass by survey, capture, handle, release, collect adult vouchers, and collect branchiopod cysts) the Conservancy fairy shrimp (Branchinecta conservatio), longhorn fairy shrimp (Branchinecta longiantenna) and vernal pool tadpole shrimp (Lepidurus packardi) in conjunction with surveys throughout the range of the species in California for the purpose of enhancing the species' survival.

Permit No. TE-134334

Applicant: Lincoln Hulse, Mission Viejo, California

The applicant requests a permit renewal to take (harass by survey, capture, handle, and release) the San Bernardino Merriam's kangaroo rat (Dipodomys merriami parvus) in conjunction with survey activities throughout the range of the species for the purpose of enhancing the species' survival.

Permit No. TE-009018

Applicant: Rancho Santa Ana Botanic Garden, Claremont, California

The applicant requests a permit renewal to remove/reduce to possession the following species on Federal lands, in conjunction with surveys, population studies, establishment and maintenance of a living collection or seed bank, and research throughout the ranges of the species in California and Nevada for the purpose of enhancing the species' survival.

• Acanthomintha duttonii (A. obovata subsp. d.) (San Mateo thornmint),

• Acanthoscyphus parishii var. goodmaniana (Oxytheca p. var. g.) (Cushenbury oxytheca),

• Acmispon dendroideus var. traskiae (Lotus d. subsp. t.) (San Clemente Island lotus),

• Allium munzii (Munz's onion),

• Alopecurus aequalis var. sonomensis (Sonoma alopecurus),

• Ambrosia pumila (San Diego ambrosia),

• Amsinckia grandiflora (large-flowered fiddleneck),

• Arabis mcdonaldiana (McDonald's rockcress),

• Arctostaphylos confertiflora (Santa Rosa Island manzanita),

• Arctostaphylos glandulosa subsp. crassifolia (Del Mar manzanita),

• Arctostaphylos mmontana subsp. ravenii (A. hookeri subsp. r.) (Raven's manzanita (Presidio m.)),

• Arenaria paludicola (marsh sandwort),

• Astragalus albens (Cushenbury milk-vetch),

• Astragalus brauntonii (Braunton's milk-vetch),

• Astragalus claranus (Clara Hunt's milk-vetch),

• Astragalus jaegerianus (Lane Mountain milk-vetch),

• Astragalus lentiginosus var. coachellae (Coachella Valley milk-vetch),

• Astragalus pycnostachyus var. lanosissimus (Ventura Marsh milk-vetch),

• Astragalus tener var. titi (coastal dunes milk-vetch),

• Astragalus tricarinatus (triple-ribbed milk-vetch),

• Atriplex coronata var. notatior (San Jacinto Valley crownscale),

• Berberis nevinii (Nevin's barberry),

• Berberis pinnata subsp. insularis (island barberry),

• Blennosperma bakeri (Sonoma sunshine),

• Boechera hoffmannii (Aribis h.) (Hoffmann's rockcress),

• Calystegia stebbinsii (Stebbins' morning-glory),

• Carex albida (white sedge),

• Castilleja affinis subsp. neglecta (Tiburon paintbrush),

• Castilleja grisea (San Clemente Island paintbrush),

• Castilleja mollis (soft-leaved paintbrush),

• Caulanthus californicus (California jewelflower),

• Ceanothus ferrisiae (coyote ceanothus),

• Ceanothus roderickii (Pine Hill ceanothus),

• Cercocarpus traskiae (Catalina Island mountain-mahogany),

• Chloropyron maritimum subsp. maritimum (Cordylanthus maritimus subsp. maritimus) (salt marsh bird's-beak),

• Chloropyron molle subsp. molle (Cordylanthus mollis subsp. mollis) (soft bird's-beak),

• Chorizanthe howellii (Howell's spineflower),

• Chorizanthe orcuttiana (Orcutt's spineflower),

• Chorizanthe pungens var. hartwegiana (Ben Lomond spineflower),

• Chorizanthe robusta var. hartwegii (Scotts Valley spineflower),

• Chorizanthe robusta var. robusta (robust spineflower),

• Chorizanthe valida (Sonoma spineflower),

• Cirsium fontinale var. fontinale (fountain thistle),

• Cirsium fontinale var. obispoense (Chorro Creek bog thistle),

• Cirsium hydrophilum var. hydrophilum (Suisun thistle),

• Cirsium loncholepis (La Graciosa thistle),

• Clarkia franciscana (Presidio clarkia),

• Clarkia imbricata (Vine Hill clarkia),

• Clarkia speciosa subsp. immaculata (Pismo clarkia),

• Chloropyron palmatum (Cordylanthus palmatus) (palmate-bracted bird's-beak),

• Cordylanthus tenuis subsp. capillaris (Pennell's bird's-beak),

• Deinandra conjugens (Hemizonia c.) (Otay tarplant),

• Deinandra increscens subsp. villosa (Gaviota tarplant), bakeri (Baker's larkspur),

• Delphinium luteum (yellow larkspur),

• Delphinium variegatum subsp. kinkiense (San Clemente Island larkspur),

• Dodecahema leptoceras (slender-horned spineflower),

• Dudleya setchellii (Santa Clara Valley dudleya),

• Eremalche kernensis (Kern mallow),

• Eriastrum densifolium subsp. sanctorum (Santa Ana River woolly-star),

• Eriodictyon altissimum (Indian Knob mountain balm),

• Eriodictyon capitatum (Lompoc yerba santa),

• Eriogonum apricum (incl. vars. apricum and prostratum) (lone buckwheat and Irish Hill buckwheat),

• Eriogonum ovalifolium var. vineum (Cushenbury buckwheat),

• Eriophyllum latilobum (San Mateo woolly sunflower),

• Eryngium aristulatum var. parishii (San Diego button-celery),

• Eryngium constancei (Loch Lomond coyote thistle),

• Erysimum capitatum var. angustatum (Contra Costa wallflower),

• Erysimum menziesii (Menzies' wallflower),

• Erysimum teretifolium (Ben Lomond wallflower),

• Fremontodendron decumbens (F. californicum subsp. d.) (Pine Hill flannelbush),

• Fremontodendron mexicanum (Mexican flannelbush),

• Galium buxifolium (island bedstraw),

• Galium californicum subsp. sierrae (El Dorado bedstraw),

• Gilia tenuiflora subsp. arenaria (Monterey gilia),

• Gilia tenuiflora subsp. hoffmanii (Hoffmann's slender-flowered gilia),

• Helianthemum greenei (island rush-rose),

• Hesperocyparis abramsiana (Cupressus a.) (incl. vars. abramsiana and butanoensis) (Santa Cruz cypress and San Mateo cypress),

• Holocarpha macradenia (Santa Cruz tarplant),

• Lasthenia burkei (Burke's goldfields),

• Lasthenia conjugens (Contra Costa goldfields),

• Layia carnosa (beach layia),

• Lessingia germanorum (L.g. var. germanorum) (San Francisco lessingia),

• Lilium occidentale (western lily),

• Lilium pardalinum subsp. pitkinense (Pitkin Marsh lily),

• Limnanthes floccosa subsp. californica (Butte County meadowfoam),

• Limnanthes vinculans (Sebastopol meadowfoam),

• Lithophragma maximum (San Clemente Island woodland-star),

• Lupinus nipomensis (Nipomo Mesa lupine),

• Lupinus tidestromii (clover lupine),

• Malacothamnus clementinus (San Clemente Island bush-mallow),

• Malacothamnus fasciculatus var. nesioticus (Santa Cruz Island bush-mallow),

• Malacothrix indecora (Santa Cruz Island malacothrix),

• Malacothrix squalida (island malacothrix),

• Monardella viminea (M. linoides subsp. v.) (willowy monardella),

• Monolopia congdonii (Lembertia c.) (San Joaquin woolly-threads),

• Nasturtium gambelii (Rorippa g.) (Gambel's watercress),

• Navarretia leucocephala subsp. pauciflora (N. pauciflora) (few-flowered navarretia),

• Navarretia leucocephala subsp. plieantha (many-flowered navarretia),

• Nitrophila mohavensis (Amargosa niterwort),

• Noccaea fendleri subsp. californica (Thlaspi californicum) (Kneeland Prairie penny-cress),

• Oenothera californica subsp. eurekensis (O. avita subsp. e.) (Eureka Valley evening-primrose),

• Oenothera deltoides subsp. howellii (Antioch Dunes evening-primrose),

• Opuntia basilaris var. treleasei (O. treleasei) (Bakersfield cactus),

• Orcuttia californica (California orcutt grass),

• Orcuttia pilosa (hairy orcutt grass),

• Orcuttia viscida (Sacramento orcutt grass),

• Pentachaeta bellidiflora (white-rayed pentachaeta),

• Pentachaeta lyonii (Lyon's pentachaeta),

• Phacelia insularis subsp. insularis (island phacelia),

• Phlox hirsuta (Yreka phlox),

• Physaria kingii subsp. bernardina (Lesquerella k. subsp. b.) (San Bernardino Mountains bladderpod),

• Piperia yadonii (Yadon's piperia),

• Plagiobothrys strictus (Calistoga allocarya),

• Poa atropurpurea (San Bernardino bluegrass),

• Poa napensis (Napa bluegrass),

• Pogogyne abramsii (San Diego mesa-mint),

• Pogogyne nudiuscula (Otay mesa-mint),

• Polygonum hickmanii (Scotts Valley polygonum),

• Potentilla hickmanii (Hickman's potentilla),

• Pseudobahia peirsonii (San Joaquin adobe sunburst),

• Sedella leiocarpa (Parvisedum l.) (Lake County stonecrop),

• Sibara filifolia (Santa Cruz Island rockcress),

• Sidalcea keckii (Keck's checker-mallow),

• Sidalcea oregana subsp. valida (Kenwood Marsh checker-mallow),

• Sidalcea pedata (pedate checker-mallow),

• Streptanthus albidus subsp. albidus (Metcalf Canyon jewelflower),

• Streptanthus niger (Tiburon jewelflower),

• Suaeda californica (California seablite),

• Swallenia alexandrae (Eureka Dune grass),

• Taraxacum californicum (California taraxacum),

• Thelypodium stenopetalum (slender-petaled mustard),

• Thysanocarpus conchuliferus (Santa Cruz Island fringepod),

• Trifolium amoenum (showy Indian clover),

• Trifolium trichocalyx (Monterey clover),

• Tuctoria greenei (Greene's tuctoria), and

• Tuctoria mucronata (Solano grass)

Permit No. TE-53825B

Applicant: Zoological Society of San Diego, San Diego, California

The applicant requests a permit amendment to take (collect biological samples) the California least tern (Sternula antillarum browni) (Sterna a. browni) in conjunction with survey and population monitoring activities within Marine Corps Base Camp Pendleton and Naval Base San Diego, San Diego County, California, for the purpose of enhancing the species' survival.

Permit No. TE-027742

Applicant: Fish Conservation and Culture Lab, University of California, Davis, California

The applicant requests a permit renewal to take (capture, handle, and collect) the delta smelt (Hypomesus transpacificus) in conjunction with research activities throughout the range of the species in the San Francisco Bay Estuary and Sacramento-San Joaquin River Delta, California, for the purpose of enhancing the species' survival.

Permit No. TE-758175

Applicant: Griffith Wildlife Biology, Calumet, California

The applicant requests a permit renewal to take (harass by survey, locate and monitor nests, and remove brown-headed cowbird (Molothrus ater) eggs and chicks from parasitized nests) the southwestern willow flycatcher (Empidonax traillii extimus) in conjunction with survey and population monitoring activities in Arizona, California, New Mexico, and Nevada; take (locate and monitor nests, remove brown-headed cowbird eggs and chicks from parasitized nests, capture, handle, band, and release) the least Bell's vireo (Vireo bellii pusillus); take (harass by survey) the light-footed Ridgway's rail (light-footed clapper r.) (Rallus obsoletus levipes) (R. longirostris l.) in conjunction with surveys and population monitoring throughout the range of the species in California; and take (harass by survey) the Yuma Ridgway's rail (Yuma clapper r.) (Rallus obsoletus yumanensis) (R. longirostris y.) in conjunction with surveys and population studies throughout the range of the species in Arizona, California, and Nevada for the purpose of enhancing the species' survival.

Permit No. TE-44855A

Applicant: Clint Scheuerman, San Luis Obispo, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-144964

Applicant: Derek Jansen, Brentwood, California

The applicant requests a permit renewal to take (harass by survey, capture, handle, and release) the California tiger salamander (Santa Barbara County and Sonoma County Distinct Population Segment (DPS)) (Ambystoma californiense) in conjunction with survey activities throughout the range of the species in California for the purpose of enhancing the species' survival.

Permit No. TE-17841A

Applicant: Tetra Tech, Inc., Santa Barbara, California

The applicant requests a permit amendment and renewal to take (harass by survey and locate and monitor nests) the California least tern (Sternula antillarum browni) (Sterna a. browni) in conjunction with surveys and population studies throughout the range of the species in San Diego, Orange, Los Angeles, Santa Barbara, San Luis Obispo, and Ventura Counties, California, for the purpose of enhancing the species' survival.

Permit No. TE-58862A

Applicant: Greg Mason, San Diego, California

The applicant requests a permit renewal and amendment to take (harass by survey, capture, handle, release, collect adult vouchers, collect branchiopod cysts, and culture and hatch cysts for species identification) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); and take (survey by pursuit) the Quino checkerspot butterfly (Euphydryas editha quino) in conjunction with survey activities throughout the range of the species in California for the purpose of enhancing the species' survival.

Permit No. TE-53771B

Applicant: Erin Bergman, La Mesa, California

The applicant requests a permit amendment to take (harass by survey, capture, handle, release, collect adult vouchers, collect branchiopod cysts, and culture and hatch cysts for species identification) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi); take (survey by pursuit) the Quino checkerspot butterfly (Euphydryas editha quino), Palos Verdes blue butterfly (Glaucopsyche lygdamus palosverdesensis), and El Segundo blue butterfly (Euphilotes battoides allyni); and take (survey by pursuit, capture, handle, release) the Casey's June beetle (Dinacoma caseyi) in conjunction with survey activities throughout the range of the species in California for the purpose of enhancing the species' survival.

Permit No. TE-85618B

Applicant: Biological Resources Services, LLC, Folsom, California

The applicant requests a new permit to take (harass by survey, capture, handle, and release) the California tiger salamander (Santa Barbara County and Sonoma County DPS) (Ambystoma californiense); blunt-nosed leopard lizard (Gambelia silus); San Joaquin kit fox (Vulpes macrotis mutica); and remove/reduce to possession the following species, on Federal lands in conjunction with survey activities throughout the range of the species in California for the purpose of enhancing the species' survival:

• Calystegia stebbinsii (Stebbins' morning-glory)

• Caulanthus californicus (California jewelflower)

• Ceanothus roderickii (Pine Hill ceanothus)

• Chloropyron palmatum (Cordylanthus palmatus) (palmate-bracted bird's-beak)

• Eremalche kernensis (Kern mallow)

• Fremontodendron decumbens (F. californicum subsp. d.) (Pine Hill flannelbush)

• Gilia tenuiflora subsp. arenaria (Monterey gilia)

• Lasthenia conjugens (Contra Costa goldfields)

• Monolopia congdonii (Lembertia c.) (San Joaquin woolly-threads)

• Orcuttia viscida (Sacramento orcutt grass)

• Trifolium amoenum (showy Indian clover)

• Tuctoria mucronata (Solano grass)

Permit No. TE-85771B

Applicant: Karen Mullen, Laguna Niguel, California

The applicant requests a new permit to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities throughout the range of the species in California for the purpose of enhancing the species' survival.

Permit No. TE-158552

Applicant: Holly Burger, Berkeley, California

The applicant requests a permit renewal and amendment to take (harass by survey, capture, handle, and release) the California tiger salamander (Santa Barbara County and Sonoma County DPS) (Ambystoma californiense) and take (harass by survey, capture, handle, mark, and release) the San Francisco garter snake (Thamnophis sirtalis tetrataenia) in conjunction with survey and population study activities throughout the range of the species in California for the purpose of enhancing the species' survival.

Permit No. TE-832946

Applicant: James Pike, Huntington Beach, California

The applicant requests a permit renewal to take (harass by survey, locate and monitor nests, and remove brown-headed cowbird (Molothrus ater) eggs and chicks from parasitized nests) the southwestern willow flycatcher (Empidonax traillii extimus), and take (locate and monitor nests and remove brown-headed cowbird eggs and chicks from parasitized nests) the least Bell's vireo (Vireo bellii pusillus) in conjunction with surveys and population monitoring throughout the range the species in California for the purpose of enhancing the species' survival.

Permit No. TE-086267

Applicant: Channel Islands National Park, Ventura, California

The applicant requests a permit renewal to take (harass by survey, capture, handle, measure, insert passive integrated transponder (PIT) tags, radio-collar, vaccinate, collect biological samples, conduct veterinary care, transport, maintain in captivity, release to the wild, and euthanize for humane reasons) the Santa Cruz Island fox (Urocyon littoralis santacruzae), San Miguel Island fox (Urocyon littoralis littoralis), and Santa Rosa Island fox (Urocyon littoralis santarosae) in conjunction with survey and research activities throughout the range of the species in California for the purpose of enhancing the species' survival.

Permit No. TE-023496

Applicant: California State University, Turlock, California

The applicant requests a permit renewal to take (harass by survey, capture, handle, release, collect adult vouchers, and collect branchiopod cysts) the Conservancy fairy shrimp (Branchinecta conservatio), longhorn fairy shrimp (Branchinecta longiantenna), San Diego fairy shrimp (Branchinecta sandiegonensis), Riverside fairy shrimp (Streptocephalus woottoni), and vernal pool tadpole shrimp (Lepidurus packardi) in conjunction with survey activities in Fresno, Kern, Kings, Madera, Merced, San Luis Obispo, San Joaquin, and Tulare Counties, California; take (survey, capture, handle, mark, insert passive integrated transponder (PIT) tag and release) the giant garter snake (Thamnophis gigas) in conjunction with survey activities in Contra Costa, Fresno, Kern, Madera, Merced, San Joaquin, and Stanislaus Counties, California; take (harass by survey, capture, handle, and release) the California tiger salamander (Santa Barbara County and Sonoma County DPS) (Ambystoma californiense); take (capture, handle, mark, PIT tag, attach/remove radio transmitters, take biological samples and release) the San Joaquin kit fox (Vulpes macrotis mutica); take (capture, handle, mark, PIT tag, attach/remove radio transmitters, take biological samples, hold in captivity, relocate and release) the blunt-nosed leopard lizard (Gambelia silus) and riparian brush rabbit (Sylvilagus bachmani riparius); take (capture, handle, mark, PIT tag, attach/remove radio transmitters, hold in captivity, relocate and release) the Fresno kangaroo rat (Dipodomys nitratoides exilis), giant kangaroo rat (Dipodomys ingens), Tipton kangaroo rat (Dipodomys nitratoides nitratoides), and riparian woodrat (Neotoma fuscipes riparia); and take (capture, handle, mark, take biological samples, and release) the Buena Vista Lake shrew (Sorex ornatus relictus) in conjunction with survey and research activities throughout the range of the species for the purpose of enhancing the species' survival.

Permit No. TE-86222B

Applicant: Ethan J. Ripperger

The applicant requests a permit to take (locate and monitor nests) the least Bell's vireo (Vireo bellii pusillus) in conjunction with survey activities throughout the range of the species for the purpose of enhancing the species' survival.

Permit No. TE-86213B

Applicant: Alan D. Roseto, Lompoc, California

The applicant requests a permit to take (harass by survey, capture, handle, and release) the California tiger salamander (Santa Barbara County and Sonoma County DPS) (Ambystoma californiense) in conjunction with survey activities throughout the range of the species for the purpose of enhancing the species' survival.

Permit No. TE-86278B

Applicant: Andrew J. Anderson

The applicant requests a permit to take (harass by survey, capture, handle, release, collect adult vouchers, and collect branchiopod cysts) the Conservancy fairy shrimp (Branchinecta conservatio), longhorn fairy shrimp (Branchinecta longiantenna), riverside fairy shrimp (Streptocephalus woottoni), and vernal pool tadpole shrimp (Lepidurus packardi) in conjunction with survey activities throughout the range of the species for the purpose of enhancing the species' survival.

Permit No. TE-785148

Applicant: Aaron P. Goldschmidt, Riverside, California

The applicant requests a permit renewal to take (harass by survey and locate and monitor nests) the southwestern willow flycatcher (Empidonax traillii extimus); take (harass by survey, capture, handle, mark, and release) the Stephens' kangaroo rat (Dipodomys stephensi) and Pacific pocket mouse (Perognathus longimembris pacificus); take (survey by pursuit) the Quino checkerspot butterfly (Euphydryas editha quino); and take (harass by survey, capture, handle, release, collect adult vouchers, and collect branchiopod cysts) the Conservancy fairy shrimp (Branchinecta conservatio), longhorn fairy shrimp (Branchinecta longiantenna), Riverside fairy shrimp (Streptocephalus woottoni), San Diego fairy shrimp (Branchinecta sandiegonensis), and vernal pool tadpole shrimp (Lepidurus packardi) in conjunction with surveys and population studies throughout the range of the species in California for the purpose of enhancing the species' survival.

Public Comments

We invite public review and comment on each of these recovery permit applications. Comments and materials we receive will be available for public inspection, by appointment, during normal business hours at the address listed in the ADDRESSES section of this notice.

Before including your address, phone number, email address, or other personal identifying information in your comment, you should be aware that your entire comment—including your personal identifying information—may be made publicly available at any time. While you can ask us in your comment to withhold your personal identifying information from public review, we cannot guarantee that we will be able to do so.

Angela Picco,
Acting Regional Director, Pacific Southwest Region, Sacramento, California.

[FR Doc. 2016-03037 Filed 2-12-16; 8:45 am]

BILLING CODE 4313-15-P